DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested and the petitioner's arguments in favor of relief.

Union Pacific Railroad Company

[Docket Number FRA-2006-25564]

The Union Pacific Railroad Company (UPRR) seeks a test waiver (WAIVER) of 49 CFR 232.207 Class IA brake tests—1,000-mile inspection based on current technology of wayside detection systems presently deployed by UPRR. The waiver is sought for two “cyclic” coal trains from South Powder River Basin (SPRB) to the power plants in Pleasant Prairie, WI, and White Bluff, AR, respectively. These round trips are of loaded trains from SPRB to the power plants and empty trains from the power plants to SPRB.

Since this is the first time that such a relief is requested based on detection and alert thresholds from wayside detection systems, the UPRR prepared a detailed “Pilot” test plan (latest revision dated February 6, 2007) with narrative describing, step-by-step, how the various requirements in 49 CFR 232.207 Class IA brake tests—1,000-mile inspection will be satisfied and verified by the wayside detection technology now being deployed by UPRR on the designated routes in the letter. UPRR states that emerging technology, such as the wayside detection technology, is a reliable, performance-based and cost effective asset that can be used to enhance and/or replace existing regulatory and rules compliance.

UPRR believes that wayside detection using a proven wheel temperature detector can be used to automatically rank the braking health of each car to prioritize inspections and repairs. The brake performance detector will utilize a brake shoe and thermal scanning module (brake shoe presence and its position, and hot/cold wheels) to determine that all brake components are in proper working order. The cars with suspect braking force will have colder wheels requiring inspections for problems such as air brake leaks, inoperative valves, and non-functioning slack adjusters. Using such a performance-based approach to find, document and track suspect brake problems allows UPRR to significantly increase the ability of the maintenance organizations to find and repair brake systems. Though this results in an increased workload to support the higher maintenance standard, it will also result in higher reliability of freight cars. Braking problems on these cars would normally be found by “visual-only” methods at a later date, resulting in less reliability. Also, the “visual-only” methods are sometimes imposed at undesirable locations that significantly impede train operations.

UPRR contends that predictive maintenance using wayside data is beneficial to manage freight car defects that cannot be effectively found or tracked with “visual-only” methods. Furthermore, exceedingly higher levels of safety and reliability can only be attained by modifying the existing paradigm for equipment and infrastructure maintenance by expanding the operational procedures to include performance measures. Current standards inadvertently limit reliability by the requirements to address every defect at the time it is discovered. This has the effect of causing all work to be reactive, which is an inherent impediment to further discovery. It is the UPRR's intention to perform more maintenance work and/or to work with its customers in joint efforts to perform the increased maintenance required at locations that are most complimentary to overall railroad productivity in order to offset the increased workload necessary to improve the overall network reliability of its train operations.

The safety evaluation to assess the validity of the waiver will require extensive collection of pertinent data and consequent validation on the two routes specified during the proposed “pilot” test program. The duration of the “pilot” test as proposed by UPRR is one year. The “Pilot” project will provide for the establishment of a data baseline (with existing regulatory inspections) in which to compare the modified inspections and operations as requested by the petition. The task will require a comprehensive review of the 49 CFR 232.207 Class IA brake tests' requirements: What requirements can be detected during the pre-departure inspection, which requirements may require regulatory modifications to provide alternate inspection criteria and determination if change toward performance-based regulations is justified or not.

Pursuant to the receipt of the waiver letter and the revised and detailed test plan (latest revision dated February 6, 2007) from UPRR, FRA is hereby providing the public an opportunity to comment on the waiver.

Interested parties are invited to participate in these proceedings by submitting written views, data or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2006-25564) and must be submitted to the Docket Clerk, DOT Central Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The statement may also be found at http://dms.dot.gov.

Issued in Washington, DC on March 21, 2007.
Grady C. Cothen, Jr.,
Deputy Associate Administrator for Safety Standards and Program Development.

[FR Doc. E7-5620 Filed 3-27-07; 8:45 am]

BILLING CODE 4910-06-P